DEPARTMENT OF AGRICULTURE

Federal Crop Insurance Corporation

7 CFR Part 457

[Docket No. FCIC-15-0002]

RIN 0563-AC48

Common Crop Insurance Regulations; Texas Citrus Fruit Crop Insurance Provisions; Correction

AGENCY: Federal Crop Insurance Corporation, USDA.

ACTION: Final rule; correcting amendment.

SUMMARY: This document contains corrections to the final regulation which was published June 13, 2016 (81 FR 38061-38067). The regulation, as here pertinent, related to the insurance of Texas Citrus Fruit.

DATES: This rule is effective August 9, 2016.

FOR FURTHER INFORMATION CONTACT: Tim Hoffmann, Director, Product Administration and Standards Division, Risk Management Agency, United States Department of Agriculture, Beacon Facility, Stop 0812, Room 421, P.O. Box 419205, Kansas City, MO 64141-6205, telephone (816) 926-7730.

SUPPLEMENTARY INFORMATION:

Background

The final regulation that is the subject of this correction revised the Common Crop Insurance Regulations, Texas Citrus Fruit Crop Insurance Provisions published June 13, 2016, (81 FR 38061-38067).

Need for Correction

As published, the final regulation contains sections where text was inadvertently removed that may prove to be misleading and needs to be corrected. In section 1, the definition of production guarantee (per acre) needs to be corrected to add section (a). Additionally, in paragraph 7(a)(4), the term “the” was inadvertently repeated following the phrase “That has produced an average yield of at least three tons per acre.”

List of Subjects in 7 CFR Part 457

Crop insurance, Texas citrus fruit, Reporting and recordkeeping requirements, Correction of publication.

Accordingly, 7 CFR part 457 is corrected by making the following correcting amendments:

PART 457—COMMON CROP INSURANCE REGULATIONS

1. The authority citation for 7 CFR part 457 continues to read as follows:

Authority: 7 U.S.C. 1506(l), 1506(o).

2. Amend § 457.119 as follows:

a. In section 1. Definitions, by revising the definition of “Production guarantee (per acre)”; and

b. In section 7(a)(4), by removing the term “the” following the phrase “That has produced an average yield of at least three tons per acre”.

The addition reads as follows:

§ 457.119 Texas citrus fruit crop insurance provisions.

* * * * *

1. Definitions

* * * * *

Production guarantee (per acre). In lieu of the definition contained in section 1 of the Basic Provisions, the production guarantee will be determined by stage as follows:

(a) First stage production guarantee—The second stage production guarantee multiplied by forty percent (40%).

(b) Second stage production guarantee. The quantity of citrus (in tons) determined by multiplying the yield determined in accordance with section 3(e) of these Crop Provisions by the coverage level percentage you elect.

* * * * *

Signed in Washington, DC, on August 2, 2016.
Timothy J. Gannon,
Acting Manager, Federal Crop Insurance Corporation.

[FR Doc. 2016-18748 Filed 8-8-16; 8:45 am]

BILLING CODE 3410-08-P